DEPARTMENT OF THE INTERIOR

National Park Service

Notice of Inventory Completion: Kingman Museum, Incorporated, Battle Creek, MI

AGENCY: National Park Service, Interior.

ACTION: Notice.

Notice is here given in accordance with the Native American Graves Protection and Repatriation Act (NAGPRA), 25 U.S.C. 3003, of the completion of an inventory of human remains and associated funerary objects of the Kingman Museum, Incorporated, Battle Creek, MI. The human remains and associated funerary objects were removed from an island near Metlakatla, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Prior to 2000, a detailed assessment of the human remains was made by Kingman Museum of Natural History professional staff in consultation with representatives of the Metlakatla Indian Community, Annette Island Reserve.

On September 17, 2002, Calhoun County Probate Court transferred the public trust for Kingman Memorial Museum of Natural History from Battle Creek Public Schools to Kingman Museum, Incorporated, a private, nonprofit 501(c)(3) charitable organization. In April of 2006, collection ownership was transferred from the Battle Creek Public Schools to Kingman Museum, Incorporated.

Before 1904, human remains representing a minimum of two individuals were removed from a cave in the mountains on an island near Metlakatla, AK. According to museum documentation, the human remains, consisting of a mummified head and a human scalp, were found by two Native American boys and were collected by Esther Gibson, an Alaskan missionary. The mummified head and scalp were in a burial box containing a cedar bark basket used for cremation ashes, and a buckskin pouch. Dr. John Harvey Kellogg donated the human remains and cultural items to the Kingman Museum of Natural History in 1904. It is unknown how the human remains and cultural items were transferred from Esther Gibson to Dr. John Harvey Kellogg. No known individuals were identified. The three associated funerary objects are one burial box, one basket for cremation ashes, and one buckskin pouch.

The individuals have been identified as Native American based on the museum's documentation, geographic information, and consultation evidence. The location of the burial is within the historically documented territory of the Metlakatla Indians. The exact date of the burial is unknown, but based on burial practices and the style of associated funerary objects, the human remains are post-contact and likely to date to the 19th century. Information provided at the time of consultation indicates that the human remains and associated funerary objects are likely to be affiliated to the members of the Metlakatla Indian Community.

On an unknown date, human remains representing a minimum of one individual were donated to the Kingman Museum of Natural History. The human remains consist of a shock of human hair, wrapped in brown paper and tied with string. Attached to the string is a tag labeled “Hair of Metlakatla Man—Alaska.” No known individual was identified. No associated funerary objects are present.

The individual has been identified as Native American based on the museum's documentation, geographic information, and consultation evidence. The museum's catalog describes the human hair as belonging to a Metlakatla man. Information provided at the time of consultation indicates that the human remains are likely to be affiliated to members of the Metlakatla Indian Community.

Officials of Kingman Museum, Incorporated have determined that, pursuant to 25 U.S.C. 3001(9-10), the human remains described above represent the physical remains of a minimum of three individuals of Native American ancestry. Officials of Kingman Museum, Incorporated also have determined that, pursuant to 25 U.S.C. 3001(3)(A), the three objects described above are reasonably believed to have been placed with or near individual human remains at the time of death or later as part of the death rite or ceremony. Lastly, officials of Kingman Museum, Incorporated also have determined that, pursuant to 25 U.S.C. 3001(2), there is a relationship of shared group identity that can be reasonably traced between the Native American human remains and the associated funerary objects and the Metlakatla Indian Community, Annette Island Reserve.

Representatives of any other Indian tribe that believes itself to be culturally affiliated with the human remains and associated funerary objects should contact Katie Nelson, Collection Manager, Kingman Museum, Incorporated, 175 Limit Street, Battle Creek, MI 49037, telephone (269) 965-5117, before May 19, 2008. Repatriation of the human remains and associated funerary objects to the Metlakatla Indian Community, Annette Island Reserve may proceed after that date if no additional claimants come forward.

Kingman Museum, Incorporated is responsible for notifying the Metlakatla Indian Community, Annette Island Reserve that this notice has been published.

Dated: March 10, 2008.
Sherry Hutt,
Manager, National NAGPRA Program.

[FR Doc. E8-8303 Filed 4-17-08; 8:45 am]

BILLING CODE 4312-50-S